DEPARTMENT OF JUSTICE

Notice of Lodging of Proposed Consent Decree Under the Comprehensive Environmental Response, Compensation, and Liability Act (“CERCLA”)

On May 15, 2023, the Department of Justice lodged a proposed consent decree with the United States District Court for the District of New Jersey in the lawsuit entitled United States of America, New Jersey Department of Environmental Protection, Commissioner of the New Jersey Department of Environmental Protection, and Administrator of the New Jersey Spill Compensation Fund v. Bank of America, N.A., Civil Action No. 3:23-cv-02598.

The United States seeks performance of a remedial action and reimbursement of response costs under sections 106 and 107 of the Comprehensive Environmental Response, Compensation, and Liability Act (“CERCLA”) in connection with the White Swan Cleaners/Sun Cleaners Area Ground Water Contamination Superfund Site (“Site”), located in Wall Township, Manasquan Borough, and Manasquan Borough, Monmouth County, New Jersey. The New Jersey Department of Environmental Protection, the Commissioner of the New Jersey Department of Environmental Protection and the Administrator of the New Jersey Spill Compensation Fund (collectively, “NJDEP”) are co-plaintiffs.

Under the proposed consent decree, the Settling Defendant (i.e., Bank of America, N.A.) agrees to perform the remedial action relating to vapor intrusion and groundwater that is identified in the United States Environmental Protection Agency's (“EPA”) Record of Decision relating to the Site, dated September 30, 2013, as modified in the Explanation of Significant Differences that EPA issued on September 25, 2017. The proposed consent decree also requires the Settling Defendant to pay the United States $10.8 million for past and future response costs and up to $1.5 million for future oversight costs. Further, the proposed consent decree requires Settling Defendant to pay a total of $6.5 million to NJDEP to resolve its liability for past and future costs and for natural resource damages.

The publication of this notice opens a period for public comment on the proposed consent decree. Comments should be addressed to the Assistant Attorney General, Environment and Natural Resources Division, Environmental Enforcement Section, and should refer to United States of America, New Jersey Department of Environmental Protection, Commissioner of the New Jersey Department of Environmental Protection, and Administrator of the New Jersey Spill Compensation Fund v. Bank of America, N.A., Civil Action No. 3:23-cv-02598, D.J. Ref. No. 90-11-3-11140. All comments must be submitted no later than sixty (60) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $664.75 (25 cents per page reproduction cost), for the consent decree with appendix, or $10.25 for the consent decree without the appendix, payable to the United States Treasury.

Henry S. Friedman,
Assistant Section Chief, Environmental Enforcement Section, Environment and Natural Resources Division.

[FR Doc. 2023-10667 Filed 5-18-23; 8:45 am]

BILLING CODE 4410-15-P